DEPARTMENT OF AGRICULTURE

Forest Service

Idaho Panhandle National Forest, Idaho—Supplemental West Gold EIS Project

AGENCY: Forest Service, USDA.

ACTION: Notice of intent to prepare a Supplemental Environmental Impact Statement.

SUMMARY: The USDA Forest Service will prepare a Supplemental Environmental Impact Statement (SEIS) for the West Gold Project. The Notice of Availability of the DEIS for the West Gold project was published in the Federal Register (67 FR 31801) on May 10, 2002 and the notice of the Final EIS (67 FR 71165) was published on November 29, 2002. The Record of Decision (ROD) on this project was administratively appealed to the Regional Forester per 36 CFR part 215. The Regional Forester affirmed this decision on February 27, 2003. However, due to information that has been identified since the availability of the FEIS and ROD it has been determined that there is a need for a supplement. On May 18, 2005, the ROD for the West Gold project was withdrawn. The purpose for the withdrawal was to further address analysis issues raised through the recent opinion issued through the U.S. Court of Appeals for the Ninth Circuit in Lands Council v. Powell, 395 F.3d 1015-1046 (9th Cir. 2005).

DATES: Scoping is not required for supplements to environmental impact statements (40 CFR 1502.9(c)(4)). There was extensive public involvement in the development of the proposed action, the 2002 DEIS, and the FEIS, and the Forest Service is not inviting comments at this time.

ADDRESSES: Sandpoint Ranger District, 1500 Highway 2, Suite 110, Sandpoint, Idaho 83864.

FOR FURTHER INFORMATION CONTACT: A.J. Helgenberg—West Gold Supplement Project Team Leader, USDA Forest Service, Sandpoint Ranger District, 208-265-6643.

SUPPLEMENTARY INFORMATION: The West Gold ROD was released with the FEIS in late November 2002, and the legal notice of decision was published November 29, 2002. The ROD selected a modification of Alternative C and authorized vegetative treatments on approximately 1,338 acres through a combination of intermediate silvicultural prescriptions, regeneration harvest and underburning treatments, and an estimated 382 acres of precommercial thinning.

The ROD authorized construction of approximately 0.16 miles of road and a helicopter landing to facilitate the vegetation treatment. To improve watershed conditions the decommissioning of an estimated 1.4 miles of existing classified road, and 0.7 miles of existing unclassified road, as well as 27.9 miles of road maintenance was authorized.

The ROD was appealed. Following administrative review, the decision was affirmed and the appellant's requested relief denied by the Appeal Deciding Officer for the Northern Region of the USDA Forest Service on February 27, 2003. On April 21, 2003, Lands Council filed a lawsuit for a temporary restraining order and preliminary injunction. In light of the lawsuit, the Forest Service elected to not proceed with any ground disturbing activities related to timber harvesting or road construction. However, to provide more off road vehicle opportunities,the gates on roads 2707A and 2707AA were modified to allow dry season use by motorized vehicles less than 50″.

The Supplemental EIS will contain additional information relating to water quality and fisheries analysis, wildlife analysis, vegetation data including gold growth, and on the effects of past and reasonably foreseeable activities (including timber harvest and mine reclamation activities). The SEIS is intended to provide additional evaluation of the effects of activities on the natural resources listed above, and provide that information to the public.

The purpose and need for the West Gold project was derived from scientific information and assessments, and from field reviews and surveys of the resources in the West Gold drainage. The West Gold project was developed to improve the health and productivity of terrestrial and aquatic habitats by restoring desired forest cover, structure, pattern, and species composition across the landscape where they are outside natural or accepted ranges, providing for wildlife habitat diversity, restoring fire as an ecological process, maintaining and improving West Gold Creek's aquatic habitat by reducing existing and potential sediment risks from roads, and managing current and additional motorized recreation opportunities while protecting resource values such as wildlife and water.

The need to manage current and additional motorized recreation activities was met under the auspice of the November 2002 ROD, and will not be re-explored in the SEIS.

Responsible Official

Ranotta K. McNair, Forest Supervisor, Idaho Panhandle National Forests, 3815 Schreiber Way, Coeur D'Alene, Idaho 83815.

Nature of Decision To Be Made

The Forest supervisor of the Idaho Panhandle National Forests will decide whether or not to implement this project, and if so, in what manner.

Comments

A Draft SEIS is expected to the public for review and comment in February 2006; and a Final SEIS in May 2006. The mailing list for this project will include those individuals, agencies, and organizations on the mailing list for the 2002 West Gold EIS. The comment period on the Draft SEIS will be 45 days from the date the Environmental Protection Agency publishes the Notice of Availability in the Federal Register. In accordance with 36 CFR 215.5, as published in the Federal Register, Volume 68 no. 107, June 4, 2003, the Draft SEIS comment period will be the designated time in which “substantive” comments will be considered. In addition, the public is encouraged to contact or visit the Forest Service officials during the analysis and prior to the decision. The Forest Service will continue to seek information, comments, and assistance from Federal, Tribal, State, and local agencies and other individuals or organizations that may be interested in or affected by the proposed actions.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 comment period so that substantive comments and objections are made available to t he Forest Service at a time when it can meaningfully consider them and respond to them in the final supplemental environmental impact statement.

To assist the Forest Service in identifying and considering issues and concerns on the proposed action, comments on the draft supplemental environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addressees of those who comment, will be considered part of the public record on this proposal and will be available for public inspection.

The Idaho Panhandle National Forests Supervisor will make a decision on the project after considering comments and responses, environmental consequences discussed in the Final Supplemental EIS, and applicable laws, regulations and policies. The decision and supporting reasons will be documented in a Record of Decision.

(Authority: 40 CFR 1501.7 and 1508.22; Forest Service Handbook 1909.15, Section 21)
Dated: December 19, 2005.
Ranotta K. McNair,
Forest Supervisor, Idaho Panhandle National Forests.

[FR Doc. 05-24526 Filed 12-29-05; 8:45 am]

BILLING CODE 3410-11-M